DEPARTMENT OF COMMERCE

Submission for OMB Review; Comment Request

The Department of Commerce has submitted to the Office of Management and Budget (OMB) for clearance the following proposal for collection of information under the provisions of the Paperwork Reduction Act (44 U.S.C. chapter 35).

Agency: National Oceanic and Atmospheric Administration (NOAA).

Title: Northwest Region Federal Fisheries Permits.

Form Number(s): None.

OMB Approval Number: 0648-0203.

Type of Request: Regular submission.

Burden Hours: 642.

Number of Respondents: 339.

Average Hours per Response: Exempted fishing permit (EFP), 10 hours; EFP summary report, 1 hour; EFP data report, 10 minutes; EFP trip notification, 2 minutes; limited entry permit transfer form or renewal form, 20 minutes; mid-season transfer of sablefish permit, 30 minutes; sablefish permit ownership interest form, 30 minutes; addition of spouse as co-owner of sablefish permit application, 20 minutes; at-sea processing vessel exemption application, 30 minutes.

Needs and Uses: As part of its fishery management responsibilities, NOAA Fisheries collects certain information to determine whether a respondent complies with regulations that allow for the issuance, transfer or renewal of a Pacific Coast Groundfish limited entry permit or an exempted fishing permit. Also, NOAA Fisheries collects information to determine whether current individual permit owners/holders comply with other existing permit regulations for enforcement purposes. The respondents are principally groundfish fishermen or fishing companies/partnerships. Other respondents include state fisheries agencies who seek an exempted to fishing permit to conduct research.

Affected Public: Business or other for-profit organizations; not-for-profit institutions; individuals or households; State, local or tribal government.

Frequency: Annually, monthly, weekly and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, fax number (202) 395-7285, or David_Rostker@omb.eop.gov.

Dated: June 16, 2006.
Gwellnar Banks,
Management Analyst, Office of the Chief Information Officer.

[FR Doc. E6-9837 Filed 6-21-06; 8:45 am]

BILLING CODE 3510-22-P